SECURITIES AND EXCHANGE COMMISSION

[File No. 500-1]

China Changjiang Mining & New Energy Co., Ltd.; Order of Suspension of Trading

April 1, 2011.

It appears to the Securities and Exchange Commission that there is a lack of current and accurate information concerning the securities of China Changjiang Mining & New Energy Co., Ltd. (“CHJI”), a Nevada corporation previously known as North American Gaming and Entertainment Corporation. CHJI has headquarters and operations in the People's Republic of China and trades in the over-the-counter market under the symbol “CHJI.”

Questions have arisen regarding the accuracy and completeness of information contained in CHJI's public filings with the Commission concerning, among other things, the company's financial statements for 2009 and 2010. CHJI has failed to disclose that (a) the company filed its last periodic report on Form 10-Q for the quarter ended September 30, 2010 without the required review of the interim financial statements by an independent public accountant; and (b) the company's independent auditor has resigned, withdrawn its audit opinion issued April 16, 2010 relating to the audit of the company's consolidated financial statements as of December 31, 2009, and informed the company that the financial statements for the quarters ended March 31, June 30, and September 30, 2010 could no longer be relied upon.

The Commission is of the opinion that the public interest and the protection of investors require a suspension of trading in the securities of the above-listed company.

Therefore, it is ordered, pursuant to Section 12(k) of the Securities Exchange Act of 1934, that trading in the securities of the above-listed company is suspended for the period from 9:30 a.m. EDT, on April 1, 2011 through 11:59 p.m. EDT, on April 14, 2011.

By the Commission.
Elizabeth M. Murphy,
Secretary.

[FR Doc. 2011-8135 Filed 4-1-11; 11:15 am]

BILLING CODE 8011-01-P